DEPARTMENT OF HOMELAND SECURITY

Federal Emergency Management Agency

[Docket ID FEMA-2016-0002]

Changes in Flood Hazard Determinations

AGENCY: Federal Emergency Management Agency, DHS.

ACTION: Final notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities. The flood hazard determinations modified by each LOMR will be used to calculate flood insurance premium rates for new buildings and their contents.

DATES: The effective date for each LOMR is indicated in the table below.

ADDRESSES: Each LOMR is available for inspection at both the respective Community Map Repository address listed in the table below and online through the FEMA Map Service Center at www.msc.fema.gov.

FOR FURTHER INFORMATION CONTACT: Rick Sacbibit, Chief, Engineering Services Branch, Federal Insurance and Mitigation Administration, FEMA, 500 C Street SW., Washington, DC 20472, (202) 646-7659, or (email) patrick.sacbibit@fema.dhs.gov; or visit the FEMA Map Information eXchange (FMIX) online at www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP and also are used to calculate the appropriate flood insurance premium rates for new buildings, and for the contents in those buildings. The changes in flood hazard determinations are in accordance with 44 CFR 65.4.

Interested lessees and owners of real property are encouraged to review the final flood hazard information available at the address cited below for each community or online through the FEMA Map Service Center at www.msc.fema.gov.

(Catalog of Federal Domestic Assistance No. 97.022, “Flood Insurance.”)

Dated: April 11, 2016.
Roy E. Wright,
Deputy Associate Administrator for Insurance and Mitigation, Department of Homeland Security, Federal Emergency Management Agency.

State and county | Location and case No. | Chief executive officer of community | Community map repository | Effective date of modification | Community No.
Arizona:
Maricopa (FEMA Docket No.: B-1556) | City of Buckeye (15-09-0476P) | The Honorable Jackie A. Meck, Mayor, City of Buckeye, 530 East Monroe Avenue, Buckeye, AZ 85326 | Engineering Department, 530 East Monroe Avenue, Buckeye, AZ 85326 | Feb. 19, 2016 | 040039
Maricopa (FEMA Docket No.: B-1556) | City of Buckeye (15-09-1721P) | The Honorable Jackie A. Meck, Mayor, City of Buckeye, 530 East Monroe Avenue, Buckeye, AZ 85326 | Engineering Department, 530 East Monroe Avenue, Buckeye, AZ 85326 | Mar. 4, 2016 | 040039
Maricopa (FEMA Docket No.: B-1552) | Town of Queen Creek (15-09-0910P) | The Honorable Gail Barney, Mayor, Town of Queen Creek, 22350 South Ellsworth Road, Queen Creek, AZ 85142 | Town Hall, 22350 South Ellsworth Road, Queen Creek, AZ 85142 | Dec. 28, 2015 | 040132
Maricopa (FEMA Docket No.: B-1552) | City of Scottsdale (15-09-2058P) | The Honorable W.J. Jim Lane, Mayor, City of Scottsdale, 3939 North Drinkwater Boulevard, Scottsdale, AZ 85251 | City Hall, 3939 North Drinkwater Boulevard, Scottsdale, AZ 85251 | Jan. 8, 2016 | 045012
Maricopa (FEMA Docket No.: B-1552) | City of Tempe (15-09-2580P) | The Honorable Mark Mitchell, Mayor, City of Tempe, P.O. Box 5002, Tempe, AZ 85280 | Engineering Department City Hall, 31 East 5th Street, Tempe, AZ 85281 | Feb. 5, 2016 | 040054
Maricopa (FEMA Docket No.: B-1556) | Unincorporated areas of Maricopa County (15-09-0476P) | The Honorable Steve Chucri, Chairman, Board of Supervisors, Maricopa County, 301 West Jefferson Street, 10th Floor, Phoenix, AZ 85003 | Flood Control District of Maricopa County, 2801 West Durango Street, Phoenix, AZ 85009 | Feb. 19, 2016 | 040037
Maricopa (FEMA Docket No.: B-1552) | Unincorporated areas of Maricopa County (15-09-0910P) | The Honorable Steve Chucri, Chairman, Board of Supervisors, Maricopa County, 301 West Jefferson Street, 10th Floor, Phoenix, AZ 85003 | Flood Control District of Maricopa County, 2801 West Durango Street, Phoenix, AZ 85009 | Dec. 28, 2015 | 040037
Pima (FEMA Docket No.: B-1556) | Town of Marana (15-09-1240P) | The Honorable Ed Honea, Mayor, Town of Marana, 11555 West Civic Center Drive, Marana, AZ 85653 | Engineering Department, 11555 West Civic Center Drive, Marana, AZ 85653 | Feb. 11, 2016 | 040118
Pima (FEMA Docket No.: B-1552) | Unincorporated areas of Pima County (14-09-4178P) | The Honorable Sharon Bronson, Chair, Board of Supervisors, Pima County, 130 West Congress Street, 11th Floor, Tucson, AZ 85701 | Pima County Flood Control District, 210 North Stone Avenue, 9th Floor, Tucson, AZ 85701 | Jan. 25, 2016 | 040073
Pima (FEMA Docket No.: B-1556) | Unincorporated areas of Pima County (15-09-2370P) | The Honorable Sharon Bronson, Chair, Board of Supervisors, Pima County, 130 West Congress Street, 11th Floor, Tucson, AZ 85701 | Pima County Flood Control District, 210 North Stone Avenue 9th Floor, Tucson, AZ 85701 | Feb. 12, 2016 | 040073
Pinal (FEMA Docket No.: B-1552) | Unincorporated areas of Pinal County (15-09-0910P) | The Honorable Cheryl Chase, Chair, Board of Supervisors, Pinal County, 135 North Pinal Street, Florence, AZ 85132 | Engineering Department, 135 North Pinal Street, Building F, Florence, AZ 85132 | Dec. 28, 2015 | 040077
Pinal (FEMA Docket No.: B-1556) | Unincorporated areas of Pinal County (15-09-1991P) | The Honorable Cheryl Chase, Chair, Board of Supervisors, Pinal County, 135 North Pinal Street, Florence, AZ 85132 | Engineering Department, 31 North Pinal Street, Building F, Florence, AZ 85132 | Feb. 11, 2016 | 040077
Pinal (FEMA Docket No.: B-1556) | Unincorporated areas of Pinal County (15-09-2521P) | The Honorable Cheryl Chase, Chair, Board of Supervisors, Pinal County, 135 North Pinal Street, Florence, AZ 85132 | Engineering Department, 31 North Pinal Street, Building F, Florence, AZ 85132 | Mar. 2, 2016 | 040077
Yavapai (FEMA Docket No.: B-1552) | Town of Prescott Valley (15-09-1138P) | The Honorable Harvey C. Skoog, Mayor, Town of Prescott Valley, 7501 East Civic Circle, Prescott Valley, AZ 86314 | Engineering Division, 7501 East Civic Circle, Prescott Valley, AZ 86314 | Jan. 8, 2016 | 040121
California:
Alameda (FEMA Docket No.: B-1556) | City of Dublin (15-09-1152P) | The Honorable David Haubert, Mayor, City of Dublin, 100 Civic Plaza, Dublin, CA 94568 | Public Works Department, 100 Civic Plaza, Dublin, CA 94568 | Mar. 8, 2016 | 060705
Riverside (FEMA Docket No.: B-1556) | City of Wildomar (15-09-2570P) | The Honorable Ben Benoit, Mayor, City of Wildomar, 23873 Clinton Keith Road, Suite 201, Wildomar, CA 92595 | City Hall, 23873 Clinton Keith Road, Suite 201, Wildomar, CA 92595 | Feb. 26, 2016 | 060221
Sacramento (FEMA Docket No.: B-1556) | Unincorporated areas of Sacramento County (15-09-2776P) | The Honorable Phil Serna, Chairman, Board of Supervisors, Sacramento County, 700 H Street, Suite 2450, Sacramento, CA 95814 | Municipal Services Agency, Department of Water Resources, 827 7th Street, Suite 301, Sacramento, CA 95814 | Feb. 17, 2016 | 060262
San Diego (FEMA Docket No.: B-1552) | City of Santee (14-09-3827P) | The Honorable Randy Voepel, Mayor, City of Santee, 10601 Magnolia Avenue, Santee, CA 92071 | City Hall, 10601 Magnolia Drive, Santee, CA 92071 | Jan. 29, 2016 | 060703
San Diego (FEMA Docket No.: B-1552) | Unincorporated areas of San Diego County (14-09-3827P) | The Honorable Bill Horn, Chairman, Board of Supervisors, San Diego County, 1600 Pacific Highway, San Diego, CA 92101 | Department of Public Works, Flood Control, 5201 Ruffin Road, Suite P, San Diego, CA 92123 | Jan. 29, 2016 | 060284
San Diego (FEMA Docket No.: B-1552) | Unincorporated areas of San Diego County (14-09-3829P) | The Honorable Bill Horn, Chairman, Board of Supervisors, San Diego County, 1600 Pacific Highway, San Diego, CA 92101 | Department of Public Works, Flood Control, 5201 Ruffin Road, Suite P, San Diego, CA 92123 | Jan. 29, 2016 | 060284
Nevada:
Clark (FEMA Docket No.: B-1552) | City of Henderson (15-09-1109P) | The Honorable Andy A. Hafen, Mayor, City of Henderson, 240 Water Street, Henderson, NV 89015 | Public Works Department, 240 Water Street, Henderson, NV 89015 | Feb. 5, 2016 | 320005
Clark (FEMA Docket No.: B-1552) | Unincorporated areas of Clark County (15-09-1539P) | The Honorable Steve Sisolak, Chairman, Board of Supervisors, Clark County, 500 South Grand Central Parkway, 6th Floor, Las Vegas, NV 89106 | Office of the Director of Public Works, 500 South Grand Central Parkway, Las Vegas, NV 89155 | Feb. 11, 2016 | 320003

[FR Doc. 2016-09853 Filed 4-26-16; 8:45 am]

BILLING CODE 9110-12-P